DEPARTMENT OF HOUSING AND URBAN DEVELOPMENT

[Docket No. FR-7080-N-20]

30-Day Notice of Proposed Information Collection: Evaluation of the Green and Resilient Retrofit Program, OMB Control No.: 2528-New

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: May 9, 2024.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Anna Guido, Clearance Officer, REE, Department of Housing and Urban Development, 451 7th Street SW, Room 8210, Washington, DC 20410-5000; email PaperworkReductionActOffice@hud.gov.

FOR FURTHER INFORMATION CONTACT: Anna P. Guido, Reports Management Officer, REE, Department of Housing and Urban Development, 451 7th Street SW, Room 8210, Washington, DC 20410; email: PaperworkReductionActOffice@hud.gov. telephone (202)-402-5535. This is not a toll-free number, HUD welcomes and is prepared to receive calls from individuals who are deaf or hard of hearing, as well as individuals with speech or communication disabilities. To learn more about how to make an accessible telephone call, please visit: https://www.fcc.gov/consumers/guides/telecommunications-relay-service-trs.

Copies of available documents submitted to OMB may be obtained from Ms. Guido.

SUPPLEMENTARY INFORMATION: This notice informs the public that HUD is seeking approval from OMB for the information collection described in Section A.

The Federal Register notice that solicited public comment on the information collection for a period of 60 days was published on November 20, 2023 at 88 FR 80740.

A. Overview of Information Collection

Title of Information Collection: Evaluation of the Green and Resilient Retrofit Program.

OMB Approval Number: 2528-New.

Type of Request: New collection.

Form Number: N/A.

Description of the need for the information and proposed use: The Office of Policy Development and Research (PD&R), at the U.S. Department of Housing and Urban Development (HUD), is proposing the collection of information to support an evaluation of the Green and Resilient Retrofit Program (GRRP). GRRP is a newly funded program through Section 30002 of the Inflation Reduction Act of 2022 (H.R. 5376) titled “Improving Energy Efficiency or Water Efficiency or Climate Resilience of Affordable Housing.” HUD is offering GRRP funding in the form of grants or loans through three award cohorts designed to meet the needs of properties in different situations, implemented through three parallel Notices of Funding Opportunities (NOFOs). These award cohorts are the Elements Award cohort, the Leading Edge Award cohort, and the Comprehensive Award cohort. Under all three award cohorts, owners of eligible HUD-assisted multifamily properties will receive funding in the form of grants or loans to undertake retrofits, enhancements, and upgrades to improve energy and water efficiency, indoor air quality, and climate hazard resilience; to reduce emissions; to use renewable energy; and/or to use low Embodied Carbon materials.

The “Elements” NOFO provides modest funding to owners to add proven and meaningful climate resilience, energy efficiency, electrification, and renewable energy measures to the construction scopes of in-progress recapitalization transactions. The “Leading Edge” NOFO provides funding for retrofit activities to achieve ambitious outcomes, including net zero, renewable energy generation, use of building materials with lower Embodied Carbon, and climate resilience investments. The “Comprehensive” NOFO will provide funding to initiate recapitalization investments designed from inception around both proven and innovative measures, including ambitious green building standards or measures, renewable energy generation, use of building materials with lower Embodied Carbon, and climate resilience investments.

The Evaluation of Green and Resilient Retrofit Program (GRRP Evaluation) will be implemented in phases. Under Phase 1, HUD plans to collect survey and interview data related to the application process, the scoping and design phase of GRRP, and the post-construction period. Energy efficiency data will also be collected using a survey.

(1) GRRP Application Survey: The application survey and interview will provide data necessary to assess the success of the application process, which is influenced by property owners' perceptions of the design of the application and the program.

(2) GRRP Scoping and Design Survey: The survey and interview related to the scoping and design phase of GRRP will provide data necessary to evaluate the process of implementing the program, including what went well and what barriers were encountered. It will cover issues related to activities such as developing the transaction plan and closing package and designing the retrofit.

(3) GRRP Post-Construction Survey: The post-construction survey and interview will provide data necessary to evaluate how well the program worked in terms of the perceived costs and benefits to property owners, including questions related to construction, such as whether property owners encountered barriers with construction.

(4) Energy Efficiency Survey (Benchmarking): The benchmarking energy efficiency survey will capture data from HUD-assisted property owners on factors affecting energy and water usage, which will support the GRRP evaluation.

This Federal Register Notice provides an opportunity to comment on the information collection for the Evaluation of the Green and Resilient Retrofit Program (GRRP Evaluation).

Table 1—Hour Burden Estimates for Information Collection
Information collection | Number of respondents | Frequency of response | Responses per annum | Burden hour per response | Annual burden hours | Hourly cost per response | Annual cost
Appendix A: Outreach Materials | 900 | 1 | 900 | 0.17 | 153 | $80.96 | $12,387
Appendix B: GRRP Application Consent Form and Survey | 900 | 1 | 900 | 0.75 | 675 | 80.96 | 54,648
Appendix C: GRRP Scoping and Design Consent Form and Survey | 450 | 1 | 450 | 0.75 | 337.5 | 80.96 | 27,324
Appendix D: GRRP Post-Construction Consent Form and Survey | 450 | 1 | 450 | 0.75 | 337.5 | 80.96 | 27,324
Appendix E: GRRP Application Consent Form and Interview | 40 | 1 | 40 | 1.3 | 52 | 80.96 | 4,210
Appendix F: GRRP Scoping and Design Consent Form and Interview | 40 | 1 | 40 | 1.3 | 52 | 80.96 | 4,210
Appendix G: GRRP Post-Construction Consent Form and Interview | 40 | 1 | 40 | 1.3 | 52 | 80.96 | 4,210
Appendix J: Energy Efficiency Survey | 2,347 | 1 | 2,347 | 0.33 | 775 | 80.96 | 62,744
Total |  |  |  |  | 2434 |  | 197,057

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comments in response to these questions.

C. Authority

Section 3507 of the Paperwork Reduction Act of 1995, 44 U.S.C. Chapter 35.

Anna P. Guido,
Department Reports Management Office, Office of Policy Development and Research, Chief Data Officer.

[FR Doc. 2024-07484 Filed 4-8-24; 8:45 am]

BILLING CODE 4210-67-P